DEPARTMENT OF ENERGY

Federal Energy Regulatory Commission

[Project No. 785-000]

Consumers Energy Company; Notice of Intent To File an Application for a New License

July 6, 2005.

a. Type of Filing: Notice of intent to file an application for a new license.

b. Project No.: 785-000.

c. Date Filed: April 7, 2005.

d. Submitted By: Consumers Energy Company—current licensee.

e. Name of Project: Calkins Bridge Hydroelectric Project.

f. Location: On the Kalamazoo River, in Allegan County, Michigan. The project does not occupy Federal lands of the United States.

g. Filed Pursuant to: Section 15 of the Federal Power Act.

h. Licensee Contact: David C. McIntosh, Consumers Energy Company, Hydro Generation, 330 Chestnut Street, Cadillac, MI 49601 (231) 779-5504.

i. FERC Contact: Tim Konnert, (202) 502-6359, timothy.konnert@ferc.gov.

j. Effective Date of Current License: September 10, 1980.

k. Expiration Date of Current License: April 10, 2010.

l. The Project Consists of the Following Existing Facilities: (1) A 42-foot-high, 1,330-foot-long dam comprised of: (i) A 1,100-foot-long earth filled embankment and (ii) a 230-foot-long integral powerhouse and gated spillway section topped with six Taintor gates; (2) a 8.5-mile-long, 1,550 acre reservoir with a normal water surface elevation of 615.0 feet; (3) a powerhouse containing three generating units with a total installed capacity of 2,550 kW; and (4) appurtenant facilities.

m. The licensee states its unequivocal intent to submit an application for a new license for Project No. 785. Pursuant to 18 CFR 16.8, 16.9, and 16.10 each application for a new license and any competing license applications must be filed with the Commission at least 24 months prior to the expiration of the existing license. All applications for license for this project must be filed by April 10, 2008.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

o. You may also register online at http://www.ferc.gov/docs-filing/esubscription.asp to be notified via email of new filings and issuances related to this or other pending projects. For assistance, contact FERC Online Support as shown in the paragraph above.

p. By this notice, the Commission is seeking corrections and updates to the attached mailing list for the Calkins Bridge Project. Updates should be filed with Magalie R. Salas, Secretary, Federal Energy Regulatory Commission, 888 First Street, NE., Washington, DC 20426.

Magalie R. Salas,
Secretary.

[FR Doc. E5-3700 Filed 7-12-05; 8:45 am]

BILLING CODE 6717-01-P